DEPARTMENT OF ENERGY

Computer Software Available for License

AGENCY: Office of General Counsel, Department of Energy.

ACTION: Notice.

SUMMARY: The U.S. Department of Energy announces that the following computer software is available for license: EC-WEB and EC/EDI Gateway small purchase software.

FOR FURTHER INFORMATION CONTACT: Michael P. Hoffman, Office of the Assistant General Counsel for Technology Transfer and Intellectual Property, U.S. Department of Energy, 1000 Independence Avenue S.W., Washington, D.C. 20585; Telephone (202) 586-2802.

SUPPLEMENTARY INFORMATION: The above-captioned computer software was prepared by a DOE contractor. It is used to assist the Department in making small purchases. The software is currently in need of revision, and the Department is looking for one or more private-sector parties who will revise and maintain the software at their own expense. A royalty free, worldwide, non-exclusive, or if deemed necessary, exclusive copyright license will be given as the incentive. The Government will retain an unlimited, royalty free, non-exclusive license in the original version of the software, and will receive a Government-wide, non-exclusive, world-wide, royalty free license to reproduce, distribute and modify the revised version prepared by the selected exclusive copyright licensee. The selected private-sector party or parties will have the right to market the software to non-Government parties. Parties will be given 45 calendar days from the date of this Notice to contact the Department. After the period for response has elapsed, respondents will be sent a series of questions on their plans for revising and maintaining the software, and under what terms they would make it available to the Government. DOE will then decide which party or parties to select.

Issued in Washington, DC, on February 1, 2000.
Paul A. Gottlieb,
Assistant General Counsel for Technology Transfer and Intellectual Property.

[FR Doc. 00-2704 Filed 2-4-00; 8:45 am]

BILLING CODE 6450-01-P